NUCLEAR REGULATORY COMMISSION

[NRC-2022-0221]

Monthly Notice; Applications and Amendments to Facility Operating Licenses and Combined Licenses Involving No Significant Hazards Considerations

AGENCY: Nuclear Regulatory Commission.

ACTION: Monthly notice.

SUMMARY: Pursuant to section 189.a.(2) of the Atomic Energy Act of 1954, as amended (the Act), the U.S. Nuclear Regulatory Commission (NRC) is publishing this regular monthly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person. This monthly notice includes all amendments issued, or proposed to be issued, from November 4, 2022, to December 8, 2022. The last monthly notice was published on November 29, 2022.

DATES: Comments must be filed by January 26, 2023. A request for a hearing or petitions for leave to intervene must be filed by February 27, 2023.

ADDRESSES: You may submit comments by any of the following methods; however, the NRC encourages electronic comment submission through the Federal rulemaking website:

• Federal Rulemaking Website: Go to https://www.regulations.gov and search for Docket ID NRC-2022-0221. Address questions about Docket IDs in Regulations.gov to Stacy Schumann; telephone: 301-415-0624; email: Stacy.Schumann@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Kay Goldstein, Office of Nuclear Reactor Regulation, U.S. Nuclear Regulatory Commission, Washington, DC 20555-0001, telephone: 301-415-1506, email: Kay.Goldstein@nrc.gov.

SUPPLEMENTARY INFORMATION:

I. Obtaining Information and Submitting Comments

A. Obtaining Information

Please refer to Docket ID NRC-2022-0221, facility name, unit number(s), docket number(s), application date, and subject when contacting the NRC about the availability of information for this action. You may obtain publicly available information related to this action by any of the following methods:

• Federal Rulemaking Website: Go to https://www.regulations.gov and search for Docket ID NRC-2022-0221.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The ADAMS accession number for each document referenced (if it is available in ADAMS) is provided the first time that it is mentioned in this document.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. Eastern Time (ET), Monday through Friday, except Federal holidays.

B. Submitting Comments

The NRC encourages electronic comment submission through the Federal rulemaking website (https://www.regulations.gov). Please include Docket ID NRC-2022-0221, facility name, unit number(s), docket number(s), application date, and subject, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown in this notice, the Commission finds that the licensees' analyses provided, consistent with section 50.91 of title 10 of the Code of Federal Regulations (10 CFR) “Notice for public comment; State consultation,” are sufficient to support the proposed determinations that these amendment requests involve NSHC. Under the Commission's regulations in 10 CFR 50.92, operation of the facilities in accordance with the proposed amendments would not (1) involve a significant increase in the probability or consequences of an accident previously evaluated; or (2) create the possibility of a new or different kind of accident from any accident previously evaluated; or (3) involve a significant reduction in a margin of safety.

The Commission is seeking public comments on these proposed determinations. Any comments received within 30 days after the date of publication of this notice will be considered in making any final determinations.

Normally, the Commission will not issue the amendments until the expiration of 60 days after the date of publication of this notice. The Commission may issue any of these license amendments before expiration of the 60-day period provided that its final determination is that the amendment involves NSHC. In addition, the Commission may issue any of these amendments prior to the expiration of the 30-day comment period if circumstances change during the 30-day comment period such that failure to act in a timely way would result, for example in derating or shutdown of the facility. If the Commission takes action on any of these amendments prior to the expiration of either the comment period or the notice period, it will publish in the Federal Register a notice of issuance. If the Commission makes a final NSHC determination for any of these amendments, any hearing will take place after issuance. The Commission expects that the need to take action on any amendment before 60 days have elapsed will occur very infrequently.

A. Opportunity To Request a Hearing and Petition for Leave To Intervene

Within 60 days after the date of publication of this notice, any persons (petitioner) whose interest may be affected by any of these actions may file a request for a hearing and petition for leave to intervene (petition) with respect to that action. Petitions shall be filed in accordance with the Commission's “Agency Rules of Practice and Procedure” in 10 CFR part 2. Interested persons should consult a current copy of 10 CFR 2.309. The NRC's regulations are accessible electronically from the NRC Library on the NRC's public website at https://www.nrc.gov/reading-rm/doc-collections/cfr. If a petition is filed, the Commission or a presiding officer will rule on the petition and, if appropriate, a notice of a hearing will be issued.

As required by 10 CFR 2.309(d) the petition should specifically explain the reasons why intervention should be permitted with particular reference to the following general requirements for standing: (1) the name, address, and telephone number of the petitioner; (2) the nature of the petitioner's right to be made a party to the proceeding; (3) the nature and extent of the petitioner's property, financial, or other interest in the proceeding; and (4) the possible effect of any decision or order which may be entered in the proceeding on the petitioner's interest.

In accordance with 10 CFR 2.309(f), the petition must also set forth the specific contentions that the petitioner seeks to have litigated in the proceeding. Each contention must consist of a specific statement of the issue of law or fact to be raised or controverted. In addition, the petitioner must provide a brief explanation of the bases for the contention and a concise statement of the alleged facts or expert opinion that support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one that, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of NSHC, the Commission will make a final determination on the issue of NSHC. The final determination will serve to establish when the hearing is held. If the final determination is that the amendment request involves NSHC, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally recognized Indian Tribe, or agency thereof does not need to address the standing requirements in 10 CFR 2.309(d) if the facility is located within its boundaries. Alternatively, a State, local governmental body, Federally recognized Indian Tribe, or agency thereof may participate as a non-party under 10 CFR 2.315(c).

If a petition is submitted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings including documents filed by an interested State, local governmental body, Federally recognized Indian Tribe, or designated agency thereof that requests to participate under 10 CFR 2.315(c), must be filed in accordance with 10 CFR 2.302. The E-Filing process requires participants to submit and serve all adjudicatory documents over the internet, or in some cases, to mail copies on electronic storage media, unless an exemption permitting an alternative filing method, as further discussed, is granted. Detailed guidance on electronic submissions is located in the “Guidance for Electronic Submissions to the NRC” (ADAMS Accession No. ML13031A056) and on the NRC's public website at https://www.nrc.gov/site-help/e-submittals.html.

To comply with the procedural requirements of E-Filing, at least 10 days prior to the filing deadline, the participant should contact the Office of the Secretary by email at Hearing.Docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the proceeding if the Secretary has not already established an electronic docket.

Information about applying for a digital ID certificate is available on the NRC's public website at https://www.nrc.gov/site-help/e-submittals/getting-started.html. After a digital ID certificate is obtained and a docket created, the participant must submit adjudicatory documents in Portable Document Format. Guidance on submissions is available on the NRC's public website at https://www.nrc.gov/site-help/electronic-sub-ref-mat.html. A filing is considered complete at the time the document is submitted through the NRC's E-Filing system. To be timely, an electronic filing must be submitted to the E-Filing system no later than 11:59 p.m. ET on the due date. Upon receipt of a transmission, the E-Filing system time-stamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed to obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9:00 a.m. and 6:00 p.m., ET, Monday through Friday, except Federal holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless excluded pursuant to an order of the presiding officer. If you do not have an NRC-issued digital ID certificate as previously described, click “cancel” when the link requests certificates and you will be automatically directed to the NRC's electronic hearing dockets where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

The following table provides the plant name, docket number, date of application, ADAMS accession number, and location in the application of the licensees' proposed NSHC determinations. For further details with respect to these license amendment applications, see the applications for amendment, which are available for public inspection in ADAMS. For additional direction on accessing information related to this document, see the “Obtaining Information and Submitting Comments” section of this document.

License Amendment Request(s)
Constellation Energy Generation, LLC; Calvert Cliffs Nuclear Power Plant, Units 1 and 2; Calvert County, MD; Constellation Energy Generation, LLC; Peach Bottom Atomic Power Station, Units 2 and 3; York County, PA; Constellation Energy Generation, LLC; R. E. Ginna Nuclear Power Plant; Wayne County, NY
Docket No(s) | 50-317, 50-318, 50-277, 50-278, 50-244.
Application date | October 25, 2022.
ADAMS Accession No | ML22298A010.
Location in Application of NSHC | Pages 2-4 of Attachment 1.
Brief Description of Amendment(s) | The proposed changes incorporate Technical Specification Task Force (TSTF) Improved Standard Technical Specifications Change Traveler TSTF-273-A, “[Safety Function Determination Program] SFDP Clarifications,” Revision 2, as amended by [Westinghouse Owners Group-Editorial Change] WOG-ED-23. The proposed changes add explanatory text to the limiting conditions for operation (LCO) 3.0.6 Bases clarifying the “appropriate LCO for loss of function,” and that consideration does not have to be made for a loss of power in determining loss of function. Explanatory text is also added to the programmatic description of the SFDP in Technical Specifications (TS) 5.5.15 (Calvert Cliffs Nuclear Power Plant, Units 1 and 2), TS 5.5.11 (Peach Bottom Atomic Power Station, Units 2 and 3), and TS 5.5.14 (R. E. Ginna Nuclear Power Plant) to provide clarification of the same.
Proposed Determination | NSHC.
Name of Attorney for Licensee, Mailing Address | Jason Zorn, Associate General Counsel, Constellation Energy Generation, 101 Constitution Ave, NW, Washington, DC 20001.
NRC Project Manager, Telephone Number | Scott Wall, 301-415-2855.
Florida Power & Light Company; Turkey Point Nuclear Generating Units 3 and 4; Miami-Dade County, FL
Docket No(s) | 50-250, 50-251.
Application date | August 26, 2022.
ADAMS Accession No | ML22243A161 (Package).
Location in Application of NSHC | Pages 12-13 of the Enclosure.
Brief Description of Amendment(s) | The amendments would revise the Turkey Point Nuclear Generating Units 3 and 4, operating license, specifically Paragraph 3.D, Fire Protection, for fire protection program changes that may be made without prior NRC approval. One of the criteria for such a change is that the risk increase resulting from the change is less than 1 × 10-7/year (yr) for Core Damage Frequency and less than 1 × 10-8/yr for Large Early Release Frequency. The change is to support replacement of the currently installed reactor coolant pump (RCP) seals with the Framatome RCP hydrostatic seal package equipped with the Passive Shutdown Seal.
Proposed Determination | NSHC.
Name of Attorney for Licensee, Mailing Address | Debbie Hendell, Managing Attorney—Nuclear, Florida Power & Light Company, 700 Universe Blvd., MS LAW/JB, Juno Beach, FL 33408-0420.
NRC Project Manager, Telephone Number | Michael Mahoney, 301-415-3867.
Holtec Decommissioning International, LLC, Holtec Indian Point 2, LLC, and Holtec Indian Point 3, LLC; Indian Point Station Units 1, 2 and 3; Westchester County, NY
Docket No(s) | 50-003, 50-247, 50-286.
Application date | May 20, 2022.
ADAMS Accession No | ML22140A126.
Location in Application of NSHC | Pages 7-9 of the enclosure.
Brief Description of Amendment(s) | The proposed amendment would remove the Cyber Security Plan requirements contained in License Condition 3.d of the Indian Point Unit 1 Provisional License, License Condition 2.H of the Indian Point Unit 2 Renewed Facility License, and License Condition 2.G of the Indian Point Unit 3 Renewed Facility License to reflect the guidance on cyber security requirements associated with decommissioning power reactors.
Proposed Determination | NSHC.
Name of Attorney for Licensee, Mailing Address | Erin Connolly, Corporate Counsel—Legal, Holtec International, Krishna P. Singh Technology Campus, 1 Holtec Blvd., Camden, NJ 08104.
NRC Project Manager, Telephone Number | Karl Sturzebecher, 301-415-8534.
Holtec Decommissioning International, LLC and Holtec Indian Point 2, LLC; Indian Point Station Unit 2; Westchester County, NY
Docket No(s) | 50-247.
Application date | August 2, 2022.
ADAMS Accession No | ML22214A128.
Location in Application of NSHC | Pages 8-18 of enclosure.
Brief Description of Amendment(s) | The proposed amendment would modify the Indian Point Unit 2 (IP2) staffing requirements, prohibit the transfer of Indian Point Unit 3 spent fuel to the IP2 spent fuel pool, and prohibit storing spent fuel in the IP2 spent fuel pool. This change would support transfer of the spent fuel from the IP2 spent fuel pool to dry storage within an independent spent fuel storage installation.
Proposed Determination | NSHC.
Name of Attorney for Licensee, Mailing Address | Erin Connolly, Corporate Counsel—Legal, Holtec International, Krishna P. Singh Technology Campus, 1 Holtec Blvd., Camden, NJ 08104.
NRC Project Manager, Telephone Number | Karl Sturzebecher, 301-415-8534.
Virginia Electric and Power Company, Dominion Nuclear Company; North Anna Power Station, Units 1 and 2; Louisa County, VA; Virginia Electric and Power Company; Surry Power Station, Units 1 and 2; Surry County, VA
Docket No(s) | 50-280, 50-281, 50-338, 50-339.
Application date | November 7, 2022.
ADAMS Accession No | ML22312A550.
Location in Application of NSHC | Page 32 of 36 of Enclosure 1.
Brief Description of Amendment(s) | The request would modify the Emergency Plan staff augmentation times as described in the amendment request.
Proposed Determination | NSHC.
Name of Attorney for Licensee, Mailing Address | W. S. Blair, Senior Counsel, Dominion Resource Services, Inc., 120 Tredegar St., RS-2, Richmond, VA 23219.
NRC Project Manager, Telephone Number | G. Ed Miller, 301-415-2481.

III. Notice of Issuance of Amendments to Facility Operating Licenses and Combined Licenses

During the period since publication of the last monthly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, was published in the Federal Register as indicated in the safety evaluation for each amendment.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated in the safety evaluation for the amendment.

For further details with respect to each action, see the amendment and associated documents such as the Commission's letter and safety evaluation, which may be obtained using the ADAMS accession numbers indicated in the following table. The safety evaluation will provide the ADAMS accession numbers for the application for amendment and the Federal Register citation for any environmental assessment. All of these items can be accessed as described in the “Obtaining Information and Submitting Comments” section of this document.

License Amendment Issuance(s)
Constellation Energy Generation, LLC; Clinton Power Station, Unit No. 1; DeWitt County, IL
Docket No(s) | 50-461.
Amendment Date | November 10, 2022.
ADAMS Accession No | ML22292A035.
Amendment No(s) | 246.
Brief Description of Amendment(s) | The amendment revised the Clinton Power Station, Unit No. 1, secondary containment design basis to include the Fuel Building Railroad Airlock (FBRA) and FBRA outer door.
Public Comments Received as to Proposed NSHC (Yes/No) | Yes.
Constellation Energy Generation, LLC; Clinton Power Station, Unit No. 1; DeWitt County, IL
Docket No(s) | 50-461.
Amendment Date | November 10, 2022.
ADAMS Accession No | ML22263A473.
Amendment No(s) | 247.
Brief Description of Amendment(s) | The amendment modified Technical Specifications (TS) 3.6.2.3, “Residual Heat Removal (RHR) Suppression Pool Cooling,” to allow two RHR suppression pool cooling subsystems to be inoperable for 8 hours. The amendment is consistent with NRC-approved Technical Specification Task Force (TSTF) Traveler 230-A, Revision 1, “Add New Condition B to LCO [Limiting Conditions of Operation] 3.6.2.3, RHR Suppression Pool Cooling.”
Public Comments Received as to Proposed NSHC (Yes/No) | No.
Constellation Energy Generation, LLC; Quad Cities Nuclear Power Station, Units 1 and 2; Rock Island County, IL
Docket No(s) | 50-254, 50-265.
Amendment Date | December 2, 2022.
ADAMS Accession No | ML22308A160.
Amendment No(s) | 291 (Unit 1), 287 (Unit 2).
Brief Description of Amendment(s) | The amendments revised the criticality safety analysis (CSA) methodology for performing the criticality safety evaluation for legacy fuel types in addition to the Global Nuclear Fuel Americas, LLC (GNF3) reload fuel in the Quad Cities Nuclear Power Station, Units 1 and 2, spent fuel pool. The amendments also changed the new fuel vault (NFV) CSA for storing GNF3 fuel in the NFV racks.
Public Comments Received as to Proposed NSHC (Yes/No) | No.
Constellation Energy Generation, LLC; Quad Cities Nuclear Power Station, Units 1 and 2; Rock Island County, IL
Docket No(s) | 50-254, 50-265.
Amendment Date | December 7, 2022.
ADAMS Accession No | ML22217A044.
Amendment No(s) | 292 (Unit 1), 288 (Unit 2).
Brief Description of Amendment(s) | The amendments revised the control rod scram time limits in Quad Cities Nuclear Power Station, Units 1 and 2, technical specification table 3.1.4-1, “Control Rod Scram Times.”
Public Comments Received as to Proposed NSHC (Yes/No) | No.
Duke Energy Carolinas, LLC; Catawba Nuclear Station, Units 1 and 2; York County, SC; Duke Energy Carolinas, LLC; McGuire Nuclear Station, Units 1 and 2; Mecklenburg County, NC; Duke Energy Carolinas, LLC; Oconee Nuclear Station, Units 1, 2, and 3; Oconee County, SC; Duke Energy Progress, LLC; Brunswick Steam Electric Plant, Units 1 and 2; Brunswick County, NC; Duke Energy Progress, LLC; H. B. Robinson Steam Electric Plant, Unit No. 2; Darlington County, SC; Duke Energy Progress, LLC; Shearon Harris Nuclear Power Plant, Unit 1; Wake and Chatham Counties, NC
Docket No(s) | 50-325, 50-324, 50-413, 50-414, 50-400, 50-369, 50-370, 50-269, 50-270, 50-287, 50-261.
Amendment Date | November 14, 2022.
ADAMS Accession No | ML22256A253.
Amendment No(s) | Brunswick 310 (Unit 1) and 338 (Unit 2); Catawba 315 (Unit 1) and 311 (Unit 2); Shearon Harris 196 (Unit 1); McGuire 325 (Unit 1) and 304 (Unit 2); Oconee 425 (Unit 1), 427 (Unit 2), and 426 (Unit 3); H. B. Robinson 272 (Unit 2).
Brief Description of Amendment(s) | The amendments modified certain technical specification (TS) surveillance requirements (SRs) by adding exceptions to consider the SR met when automatic valves or dampers are locked, sealed, or otherwise secured in the actuated position, in order to consider the SR met based on TS Task Force (TSTF) Traveler TSTF-541, Revision 2, “Add Exceptions to Surveillance Requirements for Valves and Dampers Locked in the Actuated Position” (ML19240A315), and the associated NRC safety evaluation for TSTF-541, Revision 2 (ML19323E926).
Public Comments Received as to Proposed NSHC (Yes/No) | No.
Duke Energy Carolinas, LLC; McGuire Nuclear Station, Units 1 and 2; Mecklenburg County, NC
Docket No(s) | 50-369, 50-370.
Amendment Date | November 29, 2022.
ADAMS Accession No | ML22290A101.
Amendment No(s) | 326 (Unit 1), 305 (Unit 2).
Brief Description of Amendment(s) | The amendments revised Technical Specification 3.4.3, “RCS [Reactor Coolant System] Pressure and Temperature (P/T) Limits,” to reflect that the associated figures for Unit 1's effective full power years (EFPY) are applicable up to 54 EFPY, and up to 38.6 EFPY for Unit 2's figures.
Public Comments Received as to Proposed NSHC (Yes/No) | No.
Energy Harbor Nuclear Corp. and Energy Harbor Nuclear Generation LLC; Davis-Besse Nuclear Power Station, Unit No. 1; Ottawa County, OH
Docket No(s) | 50-346.
Amendment Date | November 15, 2022.
ADAMS Accession No | ML22269A358.
Amendment No(s) | 305.
Brief Description of Amendment(s) | The amendment revised the emergency plan for Davis-Besse Nuclear Power Station, Unit No. 1, by changing the emergency response organization staffing requirements.
Public Comments Received as to Proposed NSHC (Yes/No) | No.
Energy Northwest; Columbia Generating Station; Benton County, WA
Docket No(s) | 50-397.
Amendment Date | November 23, 2022.
ADAMS Accession No | ML22263A445.
Amendment No(s) | 268.
Brief Description of Amendment(s) | The amendment revised Columbia Generating Station Technical Specification 3.4.11, “RCS [Reactor Coolant System] Pressure and Temperature (P/T) Limits,” to support license renewal.
Public Comments Received as to Proposed NSHC (Yes/No) | No.
Entergy Operations, Inc.; Waterford Steam Electric Station, Unit 3; St. Charles Parish, LA
Docket No(s) | 50-382.
Amendment Date | November 30, 2022.
ADAMS Accession No | ML22300A208.
Amendment No(s) | 269.
Brief Description of Amendment(s) | The amendment modified the licensing basis by adding a license condition to allow for the implementation of the provisions of 10 CFR 50.69 “Risk-informed categorization and treatment of structures, systems and components for nuclear power reactors.”
Public Comments Received as to Proposed NSHC (Yes/No) | No.
Nebraska Public Power District; Cooper Nuclear Station; Nemaha County, NE
Docket No(s) | 50-298.
Amendment Date | November 30, 2022.
ADAMS Accession No | ML22286A207.
Amendment No(s) | 272.
Brief Description of Amendment(s) | The amendment revised the Cooper technical specifications (TSs) to adopt Technical Specifications Task Force (TSTF) Traveler TSTF 554, “Revise Reactor Coolant Leakage Requirements,” Revision 1. Specifically, the amendment changed the TS definition of “Leakage,” clarifying the requirements when pressure boundary leakage is detected, and added a Required Action when pressure boundary leakage is identified.
Public Comments Received as to Proposed NSHC (Yes/No) | No.
NextEra Energy Seabrook, LLC; Seabrook Station, Unit No. 1; Rockingham County, NH
Docket No(s) | 50-443.
Amendment Date | December 5, 2022.
ADAMS Accession No | ML22287A157.
Amendment No(s) | 171.
Brief Description of Amendment(s) | The amendment revised the “Steam Generator (SG) Program” and the “Steam Generator Tube Inspection Report” technical specifications for Seabrook Station, Unit No. 1 to adopt the approved Technical Specifications Task Force (TSTF) Traveler TSTF-577, “Revised Frequencies for Steam Generator Tube Inspections.”
Public Comments Received as to Proposed NSHC (Yes/No) | No.
Pacific Gas and Electric Company; Diablo Canyon Nuclear Power Plant, Units 1 and 2; San Luis Obispo County, CA
Docket No(s) | 50-275, 50-323.
Amendment Date | November 16, 2022.
ADAMS Accession No | ML22187A025.
Amendment No(s) | 242 (Unit 1), 243 (Unit 2).
Brief Description of Amendment(s) | Upon docketing of the Pacific Gas and Electric Company certifications for permanent cessation of operations and permanent removal of fuel from the reactor vessels, the applicable Diablo Canyon Nuclear Power Plant, Units 1 and 2 (Diablo Canyon) licenses will no longer authorize operation of the reactors or emplacement or retention of fuel into the reactor vessels. The amendments revised the Diablo Canyon Emergency Plan emergency response organization staffing for the post-shutdown and permanently defueled condition. These amendments will not become effective until after docketing of the certifications for permanent cessation of operations and permanent removal of fuel from the reactor vessels for Diablo Canyon; and the Diablo Canyon Permanently Defueled Technical Specifications are implemented.
Public Comments Received as to Proposed NSHC (Yes/No) | No.
Southern Nuclear Operating Company, Inc.; Edwin I. Hatch Nuclear Plant, Units 1 and 2; Appling County, GA
Docket No(s) | 50-321, 50-366.
Amendment Date | November 7, 2022.
ADAMS Accession No | ML22293A030.
Amendment No(s) | 318 (Unit 1), 263 (Unit 2).
Brief Description of Amendment(s) | The amendments revised technical specifications (TSs) for Hatch, Units 1 and 2, to adopt Technical Specification Task Force (TSTF) Traveler, TSTF-227, involving changes to the End of Cycle Reactor Pump Trip (EOC-RPT) Instrumentation TS, and TSTF-297, involving enhancements to Feedwater and Main Turbine High Water Level Trip, EOC-RPT, and Anticipated Transient Without Scram (ATWS)-RPT TS. Specifically, the amendments add Notes and a new Required Action to allow affected feedwater pump(s) and main turbine valve(s) to be removed from service.
Public Comments Received as to Proposed NSHC (Yes/No) | No.
Southern Nuclear Operating Company, Inc.; Joseph M. Farley Nuclear Plant, Units 1 and 2; Columbia, AL
Docket No(s) | 50-348, 50-364.
Amendment Date | November 8, 2022.
ADAMS Accession No | ML22308A059.
Amendment No(s) | 244 (Unit 1), 241 (Unit 2).
Brief Description of Amendment(s) | The amendments revised the Farley, Units 1 and 2, technical specifications (TS) by relocating some detailed information from TS 5.5.16, “Main Steamline Inspection Program,” to the Farley, Units 1 and 2, Updated Final Safety Analysis Report. A program description will remain in TS 5.5.16 for each plant.
Public Comments Received as to Proposed NSHC (Yes/No) | No.
Southern Nuclear Operating Company, Inc.; Vogtle Electric Generating Plant, Units 1 and 2; Burke County, GA
Docket No(s) | 50-424, 50-425.
Amendment Date | November 8, 2022.
ADAMS Accession No | ML22286A074.
Amendment No(s) | 216 (Unit 1), 199 (Unit 2).
Brief Description of Amendment(s) | The amendments revised the Vogtle, Units 1 and 2, technical specifications (TS) by relocating some detailed information from TS 5.5.16, “MS [Main Steam] and FW [Feedwater] Piping Inspection Program,” to the Vogtle, Units 1 and 2, Updated Final Safety Analysis Report. A program description will remain in TS 5.5.16 for each plant.
Public Comments Received as to Proposed NSHC (Yes/No) | No.
Southern Nuclear Operating Company, Inc.; Vogtle Electric Generating Plant, Units 1 and 2; Burke County, GA
Docket No(s) | 50-424, 50-425.
Amendment Date | November 16, 2022.
ADAMS Accession No | ML22286A125.
Amendment No(s) | 217 (Unit 1), 200 (Unit 2).
Brief Description of Amendment(s) | The amendments adopted Technical Specification Task Force (TSTF) Traveler 283-A, Revision 3, “Modify Section 3.8 Mode Restriction Notes” (ADAMS Accession No. ML003678477) (TSTF-283-A). The amendments modify TS 3.8.1, “AC Sources—Operating,” and TS 3.8.4, “DC Sources—Operating.” Consistent with TSTF-283-A, Notes were added to allow flexibility in performing Surveillance Requirements in Modes 1 or 2, or in Modes 1, 2, 3, or 4, as applicable.
Public Comments Received as to Proposed NSHC (Yes/No) | No.
Susquehanna Nuclear, LLC and Allegheny Electric Cooperative, Inc.; Susquehanna Steam Electric Station, Units 1 and 2; Luzerne County, PA
Docket No(s) | 50-387, 50-388.
Amendment Date | November 17, 2022.
ADAMS Accession No | ML22294A150.
Amendment No(s) | 284 (Unit 1,) 267 (Unit 2).
Brief Description of Amendment(s) | These amendments revised Technical Specification 5.3.1, “Unit Staff Qualifications,” by relocating the specific minimum qualifications for unit staff to the quality assurance program and referring to the quality assurance program for the minimum qualification requirements for comparable positions.
Public Comments Received as to Proposed NSHC (Yes/No) | No.
Tennessee Valley Authority; Browns Ferry Nuclear Plant, Units 1, 2, and 3; Limestone County, AL
Docket No(s) | 50-259, 50-260, 50-296.
Amendment Date | November 21, 2022.
ADAMS Accession No | ML22220A260.
Amendment No(s) | 322 (Unit 1), 345 (Unit 2), and 305 (Unit 3).
Brief Description of Amendment(s) | The amendments revised some instrument testing and calibration definitions in the Browns Ferry Nuclear Plant, Units 1, 2, and 3, technical specifications (TSs), and incorporated the surveillance frequency control program into a couple of these definitions. The amendments are based on Technical Specification Task Force (TSTF) Traveler TSTF-205-A, Revision 3, “Revision of Channel Calibration, Channel Functional Test, and Related Definitions,” and Traveler TSTF-563-A, “Revise Instrument Testing Definitions to Incorporate the Surveillance Frequency Control Program.” The amendments also rescinded the consolidation of several surveillance requirements previously approved in Amendment Nos. 315, 338, and 298.
Public Comments Received as to Proposed NSHC (Yes/No) | No.
Tennessee Valley Authority; Browns Ferry Nuclear Plant, Units 1, 2, and 3; Limestone County, AL
Docket No(s) | 50-259, 50-260, 50-296.
Amendment Date | November 22, 2022.
ADAMS Accession No | ML22273A103.
Amendment No(s) | 323 (Unit 1), 346 (Unit 2), and 306 (Unit 3).
Brief Description of Amendment(s) | The amendments allowed the installation and use of a manually operated chilled water cross-tie line between the Browns Ferry, Unit 3, control bay chilled water system and the Browns Ferry, Units 1 and 2 (1/2), control bay chilled water system to be used when both trains of the Unit 1/2 chilled water system are inoperable. The amendments also revised Browns Ferry, Units 1, 2, and 3, Technical Specification 3.8.7, “Distribution Systems—Operating,” to provide a one-time use exception to the Required Actions during the installation and testing of the cross-tie.
Public Comments Received as to Proposed NSHC (Yes/No) | No.
Tennessee Valley Authority; Watts Bar Nuclear Plant, Units 1 and 2; Rhea County, TN
Docket No(s) | 50-390, 50-391.
Amendment Date | November 4, 2022.
ADAMS Accession No | ML22257A051.
Amendment No(s) | 156 (Unit 1), 64 (Unit 2).
Brief Description of Amendment(s) | The amendments revised a few instrument testing and calibration definitions in the Watts Bar Nuclear Plant, Units 1 and 2, technical specifications (TSs), and incorporate the surveillance frequency control program into a few of these definitions. The amendments are based on TS Task Force (TSTF) Traveler TSTF-205-A, Revision 3, “Revision of Channel Calibration, Channel Functional Test, and Related Definitions,” and TSTF-563-A, “Revise Instrument Testing Definitions to Incorporate the Surveillance Frequency Control Program.”
Public Comments Received as to Proposed NSHC (Yes/No) | No.
Tennessee Valley Authority; Browns Ferry Nuclear Plant, Units 1, 2, and 3; Limestone County, AL; Tennessee Valley Authority; Sequoyah Nuclear Plant, Units 1 and 2; Hamilton County, TN; Tennessee Valley Authority; Watts Bar Nuclear Plant, Units 1 and 2; Rhea County, TN
Docket No(s) | 50-259, 50-260, 50-296, 50-327, 50-328, 50-390, 50-391
Amendment Date | December 7, 2022.
ADAMS Accession No | ML22271A914.
Amendment No(s) | Browns Ferry 324 (Unit 1), 347 (Unit 2), 307 (Unit 3); Sequoyah 360 (Unit 1), and 354 (Unit 2); Watts Bar 157 (Unit 1), and 65 (Unit 2)
Brief Description of Amendment(s) | The amendments revised the Tennessee Valley Authority Radiological Emergency Plan emergency action level threshold value for HU2 to provide an additional method to declare the event.
Public Comments Received as to Proposed NSHC (Yes/No) | No.
Tennessee Valley Authority; Watts Bar Nuclear Plant, Units 1 and 2; Rhea County, TN
Docket No(s) | 50-390, 50-391.
Amendment Date | November 4, 2022.
ADAMS Accession No | ML22257A051.
Amendment No(s) | 156 (Unit 1), 64 (Unit 2).
Brief Description of Amendment(s) | The amendments revised a few instrument testing and calibration definitions in the Watts Bar Nuclear Plant, Units 1 and 2, technical specifications (TSs), and incorporate the surveillance frequency control program into a few of these definitions. The amendments are based on TS Task Force (TSTF) Traveler TSTF-205-A, Revision 3, “Revision of Channel Calibration, Channel Functional Test, and Related Definitions,” and TSTF-563-A, “Revise Instrument Testing Definitions to Incorporate the Surveillance Frequency Control Program.”
Public Comments Received as to Proposed NSHC (Yes/No) | No.
Union Electric Company; Callaway Plant, Unit No. 1; Callaway County, MO
Docket No(s) | 50-483.
Amendment Date | December 2, 2022.
ADAMS Accession No | ML22301A007.
Amendment No(s) | 229.
Brief Description of Amendment(s) | The amendment revised the technical specification requirements to permit the use of risk informed completion times for actions to be taken when limiting conditions for operation are not met and eliminated second completion times.
Public Comments Received as to Proposed NSHC (Yes/No) | No.
Wolf Creek Nuclear Operating Corporation; Wolf Creek Generating Station, Unit 1; Coffey County, KS
Docket No(s) | 50-482.
Amendment Date | November 4, 2022.
ADAMS Accession No | ML22252A151.
Amendment No(s) | 234.
Brief Description of Amendment(s) | The amendment revised Technical Specification 3.8.1, “AC [alternating current] Sources—Operating,” by removing the requirements associated with the Sharpe Station gensets and extending the completion time for one inoperable diesel generator from 72 hours to 14 days based upon the availability of a supplemental AC power source (i.e., station blackout diesel generator system). The amendment also deleted the license conditions associated with Amendment No. 163, which added requirements for the Sharpe Station.
Public Comments Received as to Proposed NSHC (Yes/No) | No.

Dated: December 21, 2022.
For the Nuclear Regulatory Commission.
Bo M. Pham,
Director, Division of Operating Reactor Licensing, Office of Nuclear Reactor Regulation.

[FR Doc. 2022-28141 Filed 12-23-22; 8:45 am]

BILLING CODE 7590-01-P